DEPARTMENT OF THE INTERIOR

National Park Service

[N6902; NPS-WASO-NAGPRA-NPS0041922; PPWOCRADN0-PCU00RP14.R50000]

Notice of Inventory Completion: The Museum of Kansas City, Kansas City, MO

AGENCY: National Park Service, Interior.

ACTION: Notice.

SUMMARY: In accordance with the Native American Graves Protection and Repatriation Act (NAGPRA), The Museum of Kansas City (MKC) has completed an inventory of human remains and has determined that there is a cultural affiliation between the human remains and Indian Tribes or Native Hawaiian organizations in this notice.

DATES: Repatriation of the human remains in this notice may occur on or after March 4, 2026.

ADDRESSES: Send written requests for repatriation of the human remains in this notice to Lisa Shockley, The Museum of Kansas City, 3218 Gladstone Blvd., Kansas City, MO 64123, email lshockley@museumofkansascity.org.

SUPPLEMENTARY INFORMATION: This notice is published as part of the National Park Service's administrative responsibilities under NAGPRA. The determinations in this notice are the sole responsibility of The Museum of Kansas City, and additional information on the determinations in this notice, including the results of consultation, can be found in its inventory or related records. The National Park Service is not responsible for the determinations in this notice.

Abstract of Information Available

Human remains representing at least three individuals have been identified. No associated funerary objects are present.

Human remains representing, one individual were removed from Nevada (Vernon County) MO (MKC catalogue number: 1939.62). From a former local museum (the Kansas City Historical Society) which was a founding collection of the Kansas City Museum (now MKC) in 1939.

Human remains representing, at minimum, two individuals were removed from a grave in Osage County, MO (MKC catalogue number: I.1995.267). Partial remains of at least two individuals, gender is unknown and appears to be one adult and one subadult. The clear acquisition history by the museum is unknown, although found with materials from a former local museum which merged to become part of the Kansas City Museum (MKC) in 1939.

The Museum is unaware of any hazardous substances used on these individuals.

Cultural Affiliation

Based on the information available and the results of consultation, cultural affiliation is reasonably identified by the geographical location of the human remains described in this notice.

Determinations

The Museum of Kansas City has determined that:

• The human remains described in this notice represent the physical remains of three individuals of Native American ancestry.

• There is a connection between the human remains described in this notice and The Osage Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after March 4, 2026. If competing requests for repatriation are received, The Museum of Kansas City must determine the most appropriate requestor prior to repatriation. Requests for joint repatriation of the human remains are considered a single request and not competing requests. The Museum of Kansas City is responsible for sending a copy of this notice to the Indian Tribes and Native Hawaiian organizations identified in this notice and any other consulting parties.

Authority: Native American Graves Protection and Repatriation Act, 25 U.S.C. 3003, and the implementing regulations, 43 CFR 10.10.

Dated: January 22, 2026.
Melanie O'Brien,
Manager, National NAGPRA Program.

[FR Doc. 2026-02029 Filed 1-30-26; 8:45 am]

BILLING CODE 4312-52-P